DEPARTMENT OF TRANSPORTATION

Coast Guard

33 CFR Part 100

[CGD 95-059]

RIN 2115-AF17

Regattas and Marine Parades: Delay of Effective Date

AGENCY: Coast Guard, DOT.

ACTION: Final rule; delay of effective date and conforming amendments.

SUMMARY: In accordance with the memorandum of January 20, 2001, from the Assistant to the President and Chief of Staff, entitled “Regulatory Review Plan,” published in the Federal Register on January 24, 2001 (66 FR 7702), this action temporarily delays for 60 days the effective date of the rule entitled “Regattas and Marine Parades,” published in the Federal Register on January 9, 2001, 66 FR 1580, and makes conforming amendments to reflect the effective date delay. That rule establishes the minimum time for submitting an application to hold a regatta or marine parade before the event is scheduled to take place.

DATES: The effective date of the final rule, amending 33 CFR part 100 and withdrawing the interim rule published at 61 FR 33027, published in the Federal Register on January, 2001, at 66 FR 1580, is delayed for 60 days, from March 12, 2001, until May 11, 2001. The conforming amendments are effective May 11, 2001.

FOR FURTHER INFORMATION CONTACT: Carlton Perry, Project Manager, Office of Boating Safety, U.S. Coast Guard Headquarters (G-OPB-1/3100), 2100 Second Street SW., Washington, DC 20593-0001, 202-267-0979.

SUPPLEMENTARY INFORMATION: To the extent that 5 U.S.C. 553 applies to this action, it is exempt from notice and comment because it constitutes a rule of procedure under 5 U.S.C. 553(b)(A). Alternatively, the Coast Guard's implementation of this action without opportunity for public comment, effective immediately upon publication today in the Federal Register, is based on the good cause exceptions in 5 U.S.C. 553(b)(B) and 553(d)(3). Seeking public comment is impracticable, unnecessary, and contrary to the public interest. The temporary 60-day delay in effective date is necessary to give Department officials the opportunity for further review and consideration of new regulations, consistent with the Assistant to the President's memorandum of January 20, 2001. Given the imminence of the effective day, seeking prior public comment on this temporary delay would have been impractical, as well as contrary to the public interest, in the orderly promulgation and implementation of regulations. The imminence of the effective date is also good cause for making this action effective immediately upon publication.

We are changing the dates in 33 CFR 100.15(d) and (e), Submission of application, to delay them for 60 days. The original dates were keyed to the effective date of the final rule. Therefore, because of the 60-day delay in the effective date of the final rule, we are changing, in § 100.15(d) and (e), “July 10, 2001,” to “September 8, 2001,” and, in § 100.15(e), “September 24, 2001,” to “November 23, 2001.”

List of Subjects in 33 CFR Part 100

Marine safety, Navigation (water), Reporting and recordkeeping requirements, Waterways.

For the reasons discussed in the preamble, the Coast Guard amends 33 CFR part 100 as follows:

PART 100—SAFETY OF LIFE ON NAVIGABLE WATERS

1. The authority citation for part 100 continues to read as follows:

Authority: 33 U.S.C. 1233; 49 CFR 1.46.

§ 100.15 [Amended]

2. In § 100.15, as amended at 66 FR 1582 effective May 11, 2001, in paragraph (d), remove “July 10, 2001” and add, in its place, “September 8, 2001”; and, in paragraph (e), remove “July 10, 2001” and add, in its place, “September 8, 2001” and remove “September 24, 2001” and add, in its place, “November 23, 2001”.

Dated: January 26, 2001.
Terry M. Cross,
Rear Admiral, U.S. Coast Guard Assistant Commandant for Operations.

[FR Doc. 01-3205 Filed 2-8-01; 8:45 am]

BILLING CODE 4910-15-M